DEPARTMENT OF HOMELAND SECURITY

Coast Guard

[Docket No. USCG-2009-0201]

Navigation Safety Advisory Council; Vacancies

AGENCY: Coast Guard, DHS.

ACTION: Request for applications.

SUMMARY: The Coast Guard seeks applications for membership on the Navigation Safety Advisory Council (NAVSAC). NAVSAC provides advice and makes recommendations to the Secretary on a wide range of issues related to the prevention of collisions, rammings, and groundings. This includes, but is not limited to: Inland and International Rules of the Road, navigation regulations and equipment, routing measures, marine information, diving safety, and aids to navigation systems.

DATES: Application forms should reach us on or before June 19, 2009.

ADDRESSES: You may request an application form by writing to Commandant (CG-54121), U.S. Coast Guard, 2100 Second Street, SW., Washington, DC 20593-0001; by calling 202-372-1532; or by faxing 202-372-1929. This notice is also available in our online docket, USCG-2009-0201, at http://www.regulations.gov. Send your completed application to the above street address.

FOR FURTHER INFORMATION CONTACT: Mike Sollosi, Designated Federal Officer (DFO) of NAVSAC, or John Bobb, Assistant DFO; telephone 202-372-1532, fax 202-372-1929.

SUPPLEMENTARY INFORMATION: The Navigation Safety Advisory Council (NAVSAC) is a Federal advisory committee under 5 U.S.C. App. (Pub. L. 92-463). NAVSAC provides advice and makes recommendations to the Secretary of Homeland Security on a wide range of issues related to the prevention of collisions, rammings, and groundings. This includes, but is not limited to: Inland and International Rules of the Road, navigation regulations and equipment, routing measures, marine information, diving safety, and aids to navigation systems.

NAVSAC meets at least once a year at Coast Guard Headquarters, Washington, DC, or another location selected by the Coast Guard. It may also meet for extraordinary purposes. Its subcommittees and working groups may meet to consider specific problems as required.

Selected individuals will serve as either Special Government Employees (SGE) or Representative Members. An SGE Member is an officer or employee of the executive or legislative branch who is retained, designated, appointed, or employed to perform temporary duties (either on a full-time or intermittent basis) for not to exceed 130 days during any period of 365 consecutive days. The definition of SGE also includes individuals in certain miscellaneous positions, who are deemed SGEs without regard to the number of days of service. In general, SGEs provide Federal advisory committees with their own best independent judgment based on their individual expertise. (See 18 U.S.C. 202(a).)

A Representative Member is an individual who is not a Federal employee (or a Federal employee who is attending in a personal capacity), who is selected for membership on a Federal advisory committee for the purpose of obtaining the point of view or perspective of an outside interest group or stakeholder interest. While representative members may have expertise in a specific area, discipline, or subject matter, they are not selected solely on the basis of this expertise, but rather are selected to represent the point of view of a group or particular interest. A representative member may represent groups or organizations, such as industry, labor, consumers or any other recognizable group of persons having an interest in matters before the committee.

We will consider applications for six positions that expire or become vacant in November 2009. Applications will be considered from persons representing, insofar as practical, the following groups: Four persons from among recognized experts and leaders in organizations having an active interest in the Rules of the Road and vessel and port safety; and two persons from among professional mariners, recreational boaters and the recreational boating industry.

Organizations having an active interest in the Rules of the Road and vessel and port safety are considered to include organizations representing vessel owners and operators of vessels operating on international waters and/or the inland waters of the United States; the Federal and State maritime academies; maritime education and training institutions teaching Rules of the Road, navigation, and electronic navigation; and organizations established to facilitate vessel movement and navigational safety. Members from these organizations are appointed to express the viewpoint of the organizations listed above and are SGEs as defined in section 202(a) of title 18, United States Code, and will not be appointed as Representative Members.

Professional mariners are considered to include actively working or retired mariners experienced in applying the Inland and/or International Rules as masters or licensed deck officers of vessels operating on international waters or the inland waters of the United States, and federal or state licensed pilots. Recreational boaters and the recreational boating industry are specifically identified groups that members may represent. Members from these groups are appointed to express the viewpoint of the groups listed above in which they serve or have served and are not SGEs as defined in section 202(a) of title 18, United States Code, and will be appointed as Representative Members.

All individuals meeting the above requirements are invited to apply. Each member serves for a term of three years. A few members may serve consecutive terms. All members serve at their own expense and receive no salary but receive reimbursement for travel expenses and per diem expenses from the Federal Government.

In support of the policy of the Coast Guard on gender and ethnic diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a). Only the Designated Agency Ethics Official (DAEO) or the DAEO's designate may release a Confidential Financial Disclosure Report.

If you are interested in applying to become a member of NAVSAC, send a completed application to Commandant (CG-54121), U.S. Coast Guard, 2100 Second Street, SW., Washington, DC 20593-0001. Applications should reach us on or before June 19, 2009.

Dated: April 20, 2009.
W.A. Muilenburg,
Captain, U.S. Coast Guard, Office of Waterways Management.

[FR Doc. E9-9534 Filed 4-24-09; 8:45 am]

BILLING CODE 4910-15-P